DEPARTMENT OF HOMELAND SECURITY

Coast Guard

33 CFR Part 117

[Docket No. USCG-2013-0707]

Drawbridge Operation Regulation; Atlantic Intracoastal Waterway (AIWW), Chesapeake, VA

AGENCY: Coast Guard, DHS.

ACTION: Notice of deviation from drawbridge regulations.

SUMMARY: The Coast Guard has issued a temporary deviation from the operating schedule that governs the operation of the I64 Bridge across the Atlantic Intracoastal Waterway, South Branch of the Elizabeth River, mile 7.1, at Chesapeake, VA.

This deviation is necessary to facilitate maintenance work on the moveable spans. This temporary deviation allows the drawbridge to remain in the closed to navigation position.

DATES: This deviation is effective from 7 a.m. on Sept 13, 2013 to 5 p.m. Sept 29, 2013.

ADDRESSES: The docket for this deviation, [USCG-2013-0707] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Kashanda Booker, Bridge Administration Branch Fifth District, Coast Guard; telephone (757) 398-6227, email Kashanda.l.booker@uscg.mil. If you have questions on reviewing the docket, call Barbara Hairston, Program Manager, Docket Operations, (202) 366-9826.

SUPPLEMENTARY INFORMATION: The Virginia Department of Transportation, who owns and operates this bridge, has requested a temporary deviation from the current operating regulation set out in 33 CFR 117.997(e), to facilitate maintenance of the moveable spans on the structure.

The current operating schedule for the bridge is set out in 33 CFR 117.997 (e) which requires the bridge open on signal if at least 24 hours notice is given. The I64 Bridge has a vertical clearance in the closed position of 65 feet above mean high water.

Under this temporary deviation, the drawbridge will be closed to navigation each day, from 7 a.m. to 5 p.m., on Friday September 13, 2013 to Sunday September 15, 2013; and on Friday September 20, 2013 to Sunday September 22, 2013; with inclement weather dates, from 7 a.m. to 5 p.m., on Friday September 27, 2013 through Sunday, September 29, 2013. The bridge will operate under normal operating schedule at all other times.

Vessels able to pass under the bridge in the closed position may do so at anytime and are advised to proceed with caution. There is no immediate alternate route for vessels transiting this section on the South Branch of the Elizabeth River; however, vessels requiring an opening may proceed before and after the closure periods. The bridge will not be able to open for emergencies. The Coast Guard will also inform additional waterway users through our Local and Broadcast Notices to Mariners of the closure periods for the bridge so that vessels can arrange their transits to minimize any impacts caused by the temporary deviation.

In accordance with 33 CFR 117.35(e), the drawbridge must return to its regular operating schedule immediately at the end of the effective period of this temporary deviation. This deviation from the operating regulations is authorized under 33 CFR 117.35.

Dated: July 31, 2013.
Waverly W. Gregory, Jr.,
Bridge Program Manager, Fifth Coast Guard District.

[FR Doc. 2013-19353 Filed 8-8-13; 8:45 am]

BILLING CODE 9110-04-P